DEPARTMENT OF AGRICULTURE

Agricultural Marketing Service

7 CFR Part 927

[Docket No. FV03-927-1]

Winter Pears Grown in Oregon and Washington; Continuance Referendum

AGENCY: Agricultural Marketing Service, USDA.

ACTION: Referendum order.

SUMMARY: This document directs that a continuance referendum be conducted among eligible growers of winter pears in Oregon and Washington to determine whether they favor continuance of the marketing order regulating the handling of winter pears grown in the production area.

DATES: The referendum will be conducted from April 16 through April 30, 2003. To vote in this referendum, growers must have been engaged in producing winter pears within the production area during the period July 1, 2001, through June 30, 2002.

ADDRESSES: Copies of the marketing order may be obtained from USDA, Northwest Marketing Field Office, 1220 SW Third Avenue, Room 369, Portland, Oregon, 97204, or the Office of the Docket Clerk, Marketing Order Administration Branch, Fruit and Vegetable Programs, Agricultural Marketing Service, U.S. Department of Agriculture, 1400 Independence Avenue SW, Stop 0237, Washington, DC, 20250-0237.

FOR FURTHER INFORMATION CONTACT: Gary D. Olson, Regional Manager, Northwest Marketing Field Office, Marketing Order Administration Branch, Fruit and Vegetable Programs, Agricultural Marketing Service, U.S. Department of Agriculture, 1220 SW Third Avenue, Room 369, Portland, OR 97204; telephone (503) 326-2724; fax (503) 326-7440; or Melissa Schmaedick, Marketing Order Administration Branch, Fruit and Vegetable Programs, Agricultural Marketing Service, U.S. Department of Agriculture, PO Box 1035, Moab, UT 84532; telephone (435) 259-7988; fax (435) 259-4945.

SUPPLEMENTARY INFORMATION: Pursuant to Marketing Order No. 927 (7 CFR part 927), hereinafter referred to as the “order,” and the applicable provisions of the Agricultural Marketing Agreement Act of 1937, as amended (7 U.S.C. 601-674), hereinafter referred to as the “Act,” it is hereby directed that a referendum be conducted to ascertain whether continuance of the order is favored by growers. The referendum shall be conducted during the period April 16 through April 30, 2003, among eligible winter pear growers in the production area. Only growers that were engaged in the production of winter pears in the States of Oregon and Washington during the period of July 1, 2001, through June 30, 2002, may participate in the continuance referendum.

USDA has determined that continuance referenda are an effective means for determining whether growers favor continuation of marketing order programs. The USDA would consider termination of the order if continuance is favored by less than two-thirds of the growers voting in the referendum and by growers of less than two-thirds of the volume of winter pears represented in the referendum.

In evaluating the merits of continuance versus termination, the USDA will not only consider the results of the continuance referendum. The USDA will also consider all other relevant information concerning the operation of the order and the relative benefits and disadvantages to growers, processors, and consumers in order to determine whether continued operation of the order would tend to effectuate the declared policy of the Act.

In accordance with the Paperwork Reduction Act of 1995 (44 U.S.C. chapter 35), the ballot materials used in the referendum herein ordered have been submitted to and approved by the Office of Management and Budget (OMB) and have been assigned OMB No. 0581-0177. It has been estimated that it will take an average of 30 minutes for each of the approximately 1,528 producers of winter pears in the production area to cast a ballot. Participation is voluntary. Ballots postmarked after April 30, 2003, will be marked invalid and not included in the vote tabulation.

Gary D. Olson and Susan M. Hiller of the Northwest Marketing Field Office, Fruit and Vegetable Programs, Agricultural Marketing Service, USDA, are hereby designated as the referendum agents of USDA to conduct such referendum. The procedure applicable to the referendum shall be the “Procedure for the Conduct of Referenda in Connection With Marketing Orders for Fruits, Vegetables, and Nuts Pursuant to the Agricultural Marketing Agreement Act of 1937, as Amended” (7 CFR 900.400 et seq.).

Ballots will be mailed to all growers of record and may also be obtained from the referendum agents and their appointees.

List of Subjects in 7 CFR Part 927

Marketing agreements, Pears, Reporting and recordkeeping requirements.

Authority: 7 U.S.C. 601-674.

Dated: March 24, 2003.
A.J. Yates,
Administrator, Agricultural Marketing Service.

[FR Doc. 03-7635 Filed 3-28-03; 8:45 am]

BILLING CODE 3410-02-P